FEDERAL MARITIME COMMISSION

Notice of Requests for Additional Information

The Commission gives notice that it has formally requested that the parties to the below listed agreement provide additional information pursuant to 46 U.S.C. 40304(d). This action suspends the statutory effective date until 45 days after the Commission receives all the additional information and documents requested. Interested parties may submit written comments, including relevant information and documents, regarding the agreement to the Secretary by email at Secretary@fmc.gov, or by mail, Federal Maritime Commission, 800 North Capitol Street NW, Washington, DC 20573. Comments may be filed up to fifteen (15) days after publication of this notice appears in the Federal Register.

Agreement No.: 201435.

Title: Premier Alliance Agreement.

Parties: HMM Co., Ltd.; Ocean Network Express Pte. Ltd.; and Yang Ming Joint Service Agreement, FMC Agreement No. 201392. Current parties to the Yang Ming Joint Service Agreement are: Yang Ming Marine Transport Corp. and Yang Ming (Singapore) Pte. Ltd.

By Order of the Federal Maritime Commission.
Dated: December 6, 2024.
Jennifer Everling,
Assistant Secretary.

[FR Doc. 2024-29127 Filed 12-10-24; 8:45 am]

BILLING CODE 6730-02-P